DEPARTMENT OF HEALTH AND HUMAN SERVICES

Centers for Disease Control and Prevention

Disease, Disability, and Injury Prevention and Control Special Emphasis Panel: Developing Novel Diagnostic Tests To Improve Surveillance for Antimicrobial Resistant Pathogens, Funding Opportunity Announcement CI10-002; Initial Review

Correction: This notice was published in the Federal Register on April 23, 2010, Volume 75, Number 78, page 21339. The time and date, and place should read as follows:

Time and Date:

12 p.m.-3 p.m., May 18, 2010 (Closed).

Place: Teleconference.

Contact Person for More Information: Gregory Anderson, M.S., M.P.H., Scientific Review Officer, CDC, 1600 Clifton Road, NE., Mailstop E60, Atlanta, GA 30333, Telephone: (404) 498-2293. The Director, Management Analysis and Services Office, has been delegated the authority to sign Federal Register notices pertaining to announcements of meetings and other committee management activities, for both CDC and the Agency for Toxic Substances and Disease Registry.

Dated: April 29, 2010.
Elaine L. Baker,
Director, Management Analysis and Services Office, Centers for Disease Control and Prevention.

[FR Doc. 2010-11189 Filed 5-10-10; 8:45 am]

BILLING CODE 4163-18-P